DEPARTMENT OF THE INTERIOR

National Park Service

[NPS-WASO-NAGPRA-NPS0035769; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and associated funerary objects and has determined that there is a cultural affiliation between the human remains and associated funerary objects and Indian Tribes or Native Hawaiian organizations in this notice. The human remains and associated funerary objects were removed from northwest Arkansas.

DATES: Repatriation of the human remains and associated funerary objects in this notice may occur on or after June 5, 2023.

ADDRESSES: Brooke M. Morgan, Illinois State Museum Research & Collections Center, 1011 East Ash Street, Springfield, IL 62701, telephone (217) 785-8930, email brooke.morgan@illinois.gov.

SUPPLEMENTARY INFORMATION: This notice is published as part of the National Park Service's administrative responsibilities under NAGPRA. The determinations in this notice are the sole responsibility of the Illinois State Museum. The National Park Service is not responsible for the determinations in this notice. Additional information on the determinations in this notice, including the results of consultation, can be found in the inventory or related records held by the Illinois State Museum.

Description

Sometime prior to 1940, human remains representing, at minimum, one individual were removed from a dry bluff shelter in northwest Arkansas. These human remains were purchased by Ralph Foster and subsequently donated to the Ralph Foster Museum at College of the Ozarks. In 1990, the human remains were transferred to the Illinois State Museum. The four associated funerary objects are two twined garments or blankets, one lot of plant remains, and one lot of sorted burial matrix. Based on similar sites, this interment might date to the Late Woodland or Mississippian period (A.D. 500-1400).

On an unknown date, human remains representing, at minimum, one individual were removed from a bluff shelter in northwest Arkansas. In 1971, these human remains were donated to the Ralph Foster Museum at College of the Ozarks, and in 1998, they were transferred to the Illinois State Museum. No associated funerary objects are present.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, the Illinois State Museum has determined that:

• The human remains described in this notice represent the physical remains of two individuals of Native American ancestry.

• The four objects described in this notice are reasonably believed to have been placed with or near individual human remains at the time of death or later as part of the death rite or ceremony.

• There is a relationship of shared group identity that can be reasonably traced between the human remains and associated funerary objects described in this notice and The Osage Nation.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after June 5, 2023. If competing requests for repatriation are received, the Illinois State Museum must determine the most appropriate requestor prior to repatriation. Requests for joint repatriation of the human remains and associated funerary objects are considered a single request and not competing requests. The Illinois State Museum is responsible for sending a copy of this notice to the Indian Tribe identified in this notice.

Authority: Native American Graves Protection and Repatriation Act, 25 U.S.C. 3003, and the implementing regulations, 43 CFR 10.9, § 10.10, and § 10.14.

Dated: April 25, 2023.
Melanie O'Brien,
Manager, National NAGPRA Program.

[FR Doc. 2023-09472 Filed 5-3-23; 8:45 am]

BILLING CODE 4312-52-P